Title 3—

The President

Proclamation 7722 of October 15, 2003

White Cane Safety Day, 2003

By the President of the United States of America

A Proclamation

Every day, millions of Americans who are blind or visually impaired use the white cane as they travel, attend school, or work. The white cane remains one of the most important and reliable tools for people who are blind or visually impaired. It increases the mobility of these citizens, facilitating their inclusion in all aspects of American life. Since 1964 on White Cane Safety Day, America has reaffirmed our commitment to achieving equal opportunity and full independence for those who are blind or visually impaired.

Today, more people with disabilities are attending school and working than ever before. However, much work remains to fully open the doors of opportunity for citizens who are blind or visually impaired. To meet these challenges, I have created the New Freedom Initiative, a comprehensive plan to assist Americans with disabilities by increasing access to educational and employment opportunities. This initiative is lowering barriers more so that Americans can participate fully in their communities, and live and work in dignity and freedom.

My Administration also continues to promote implementation of section 508 of the Rehabilitation Act of 1973. This important statute requires the Federal Government to make more of its electronic and information technology resources, including Government websites, accessible to people with disabilities.

As we recognize the contributions of people who are blind or visually impaired, we resolve to continue building a better America where all individuals are celebrated for their abilities and encouraged to achieve their dreams.

The Congress, by joint resolution (Public Law 88-628) approved on October 6, 1964, as amended, has designated October 15 of each year as “White Cane Safety Day.”

NOW, THEREFORE, I, GEORGE W. BUSH, President of the United States of America, do hereby proclaim October 15, 2003, as White Cane Safety Day. I call upon public officials, educators, librarians, and all the people of the United States to join with me in ensuring that all the benefits and privileges of life in our great Nation are available to blind and visually impaired individuals, and to observe this day with appropriate ceremonies, activities, and programs.

IN WITNESS WHEREOF, I have hereunto set my hand this fifteenth day of October, in the year of our Lord two thousand three, and of the Independence of the United States of America the two hundred and twenty-eighth.

B

[FR Doc. 03-26459

Filed 10-16-03; 8:54 am]

Billing code 3195-01-P